DEPARTMENT OF LABOR

Employment and Training Administration

[TA-W-59,587]

Suntron Corporation; Suntron Northeast Operations (NEO); Lawrence, MA; Notice of Termination of Investigation

Pursuant to section 221 of the Trade Act of 1974, as amended, an investigation was initiated on June 20, 2006 in response to a worker petition filed by a company official on behalf of workers of Suntron Corporation, Suntron Northeast Operations (NEO), Lawrence, Massachusetts.

The petitioner has requested that the petition be withdrawn at this time. Consequently, the investigation has been terminated.

Signed at Washington, DC this 7th day of July 2006.
Linda G. Poole,
Certifying Officer, Division of Trade Adjustment Assistance.

[FR Doc. E6-11865 Filed 7-24-06; 8:45 am]

BILLING CODE 4510-30-P